DEPARTMENT OF TRANSPORTATION

Surface Transportation Board

[STB Finance Docket No. 34231]

Missouri & Valley Park Railroad Corporation—Lease Exemption—The Burlington Northern and Santa Fe Railway Company

Missouri & Valley Park Railroad Corporation (MVP), a noncarrier, has filed a notice of exemption under 49 CFR 1150.31 to lease ¹ from The Burlington Northern and Santa Fe Railway Company (BNSF) and operate approximately 2.14 miles of rail line between BNSF's milepost 20.50 near West Valley Park, MO, on the south side of the Cuba Sub Main Line, and at or near BNSF's milepost 18.36 on the Cuba Sub at East Valley Park, MO, on the south side of the Cuba Sub Main Line. MVP certifies that its projected revenues do not exceed those that would qualify it as a Class III rail carrier.

¹ MVP states that it has also entered into a trackage and interchange agreement with BNSF that affects the above leased rail line.

The transaction was due to be consummated on or after July 22, 2002. The earliest the transaction could have been consummated was on July 22, 2002, the effective date of the exemption (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34231, must be filed with the Surface Transportation Board, 1925 K Street, NW., Washington, DC 20423-0001. In addition, one copy of each pleading must be served on Edwin I. Josephson, Chuhak & Tecson, P.C., 30 South Wacker Drive, Suite 2600, Chicago, IL 60606.

Board decisions and notices are available on our website at “www.stb.dot.gov.”

Decided: July 25, 2002.
By the Board, David M. Konschnik, Director, Office of Proceedings.
Vernon A. Williams,
Secretary.

[FR Doc. 02-19310 Filed 8-2-02; 8:45 am]

BILLING CODE 4915-00-P